DEPARTMENT OF EDUCATION

Reading Excellence Program

AGENCY: Office of Elementary and Secondary Education, Department of Education.

ACTION: Notice of final priorities, application requirements, and selection criteria.

SUMMARY: The Assistant Secretary for the Office of Elementary and Secondary Education announces final priorities, application requirements, and selection criteria under the Reading Excellence Program. The Assistant Secretary is using these priorities, application requirements, and selection criteria for competitions in fiscal year 2000 and may use them for future competitions. Grants are made to State educational agencies (SEA) that will, in turn, award subgrants to local educational agencies (LEAs) for two types of activities: Local Reading Improvement subgrants (LRI) and Tutorial Assistance (TAG) subgrants.

EFFECTIVE DATE: These priorities, application requirements and selection criteria are effective May 18, 2000.

FOR FURTHER INFORMATION CONTACT: Nancy Rhett, Reading Excellence Program, U. S. Department of Education, 400 Maryland Avenue, SW, Room 5C141, Washington, DC 20202-6200. Telephone: (202) 260-8228. Fax: (202) 260-8969. Internet:

http://www.reading_excellence@ed.gov

If you use a telecommunications device for the deaf (TDD), you may call the Federal Information Relay Service (FIRS) at 1-800-877-8339.

Individuals with disabilities may obtain this document in an alternate format (e.g., Braille, large print, audiotape, or computer diskette) on request to the contact person in the preceding paragraph.

SUPPLEMENTARY INFORMATION: The Reading Excellence Program is designed to improve reading for children in high poverty schools and in schools needing improvement by supporting research-based reading instruction and tutoring. The Reading Excellence Act was authorized to carry out the following purposes:

• Teach every child to read by the end of third grade.

• Provide children in early childhood with the readiness skills and support they need to learn to read once they enter school.

• Expand the number of high quality family literacy programs.

• Provide early intervention to children who are at risk of being identified for special education inappropriately.

• Base instruction, including tutoring, on scientifically-based reading research.

Public Comment

In response to the Assistant Secretary's invitation in the notice of proposed priorities, two parties submitted comments on the proposed priorities and selection criteria. An analysis of the comments and of the changes in the priorities since publication of the notice of proposed priorities follows.

We discuss substantive issues under the priority or criterion to which they pertain. Generally, we do not address technical and other minor changes and suggested changes the law does not authorize the Assistant Secretary to make under the applicable statutory authority.

Analysis of Comments and Changes

General

Comment: A commenter disagreed with the emphasis the notice places on State leadership because there will not be adequate funds to carry out State-level activities including extensive professional development.

Discussion: Although we understand the State's concerns about insufficient funds for State-level activities, the amount available to the State for administrative costs at the State level is set by statute.

Changes: None.

Comment: A commenter suggested that the notice should be amended to focus on children who, in spite of excellent classroom instruction, will need individualized instruction to supplement the classroom reading program in order to successfully learn to read and write by the end of third grade.

Discussion: We are in full agreement that, in spite of research-based instruction, some students will need additional instructional support. However, strategies to address this need (extended learning such as tutoring, summer programs and kindergarten transition) are already required by the Reading Excellence Act. Schools must implement them in addition to strategies for changing regular classroom instruction.

Changes: None.

Priorities

Comment: A commenter proposed that the priorities be expanded to include students who are most likely to be unsuccessful in their classroom programs.

Discussion: The Reading Excellence Act already requires schools to address the needs of children at risk of failing in their classroom programs. The primary focus of the REA program is to help disadvantaged schools throughout the nation improve reading achievement, with early intervention strategies being a key element of instructional support.

Changes: None.

Absolute Priority

Comment: A commenter suggested that tutorial activities be defined to include tutorial activities that take place in the school by certified teachers using research-based instruction, which is documented as being effective over many replications of implementations.

Discussion: The Reading Excellence Act legislation requires that additional support for children experiencing reading difficulties be provided by supervised individuals, including tutors, who have been appropriately trained using scientifically-based reading research. There is no requirement for using certified teachers to provide this additional support.

Changes: None.

Application Requirements

Comment: A commenter suggested that the required list of eligible districts and schools is burdensome and unnecessary because the Department has made it very clear that it is not the intent of the Reading Excellence Program to fund every eligible school and district.

Discussion: Although we do not wish to impose additional burden, the submission of this information will enable the panelists to determine the likelihood that the requested funding amount will sufficiently fund the number of proposed subgrants for two years and at a level that will make a substantive improvement in reading instruction and student outcomes.

Changes: None.

Selection Criterion—Understanding and Commitment to Effective Reading Instruction Based on Scientifically Based Reading Research

Comment: A commenter suggested that we add an additional item under this criterion that the literature review and application of the scientifically based reading research include attention to children at risk by requiring individualized instruction beyond that given in the normal classroom setting.

Discussion: The Reading Excellence Act requires schools to serve all children, including those that need extra support, and schools may use a variety of strategies to achieve this. It would be inappropriate to emphasize a specific approach to meeting the needs of a limited group of children.

Changes: None.

Selection Criterion—Quality of Local District and School Activities

Comment: A commenter suggested that item (3)(c) be revised to say that the proposed activities to improve reading instruction will also attend to children whose level of achievement indicates that they will need individualized tutorial support to be proficient readers and writers by the end of third grade along with English language learners and children with special needs.

Discussion: We agree with the clarification added to this criterion by the commenter, but we do not wish to emphasize a specific approach for intervention.

Changes: The comment is addressed by changing item (3)(c) to evaluate the extent to which the proposed activities will improve reading instruction for all children, including English language learners, children with special needs, and children whose level of achievement indicates that they will need additional instructional support.

Selection Criterion—Quality of the Plan for State Leadership, Oversight, and Evaluation

Comment: A commenter suggested revising item (4)(e) to include the development of comprehensive early literacy programs in every school in the coordination between REA and current State and local efforts.

Discussion: We agree with highlighting coordination with comprehensive early literacy programs. However, we do not want to limit the coordination to such efforts because of the need for states to coordinate with non-school programs such as family literacy.

Changes: The comment is addressed by changing item (4)(e) under selection criterion, Quality of the plan for State leadership, oversight and evaluation, to evaluate the extent to which the proposed activities coordinate REA with other State initiatives and programs, including how the REA grant will add to current State and local efforts such as comprehensive early literacy programs.

Collection of Information

Comment: A commenter recommended emphasizing “every child” so that applicants will be required to address the children who will, in spite of excellent classroom instruction, still need additional instructional support to be successful readers by the end of third grade.

Discussion: Applicants are expected to show throughout their proposals their ability and intention to serve every child and to describe specific interventions that will be used.

Changes: None

Supplementary Information-Discussion Of Priorities

Note: This notice does not solicit applications. In any year in which the Assistant Secretary chooses to use these priorities, we invite applications through a notice in the Federal Register.

Priorities

Absolute Priority

Under this priority the Assistant Secretary gives an absolute preference to SEAs that exclusively fund, at the subgrant level, activities to improve kindergarten through grade three reading instruction and related early childhood, professional development, family literacy, extended learning and tutorial activities.

Competitive Priority

Section 2253(c)(2)(C) of the Reading Excellence Act requires that priority be given to SEAs whose States have modified, are modifying, or provide an assurance that they will modify their elementary school teacher certification requirements within 18 months after receiving an REA grant. The modification must increase the training and the methods of teaching reading required for certification as an elementary school teacher to reflect scientifically-based reading research. However, nothing in the REA may be construed to establish a national system of teacher certification.

The Assistant Secretary will award up to 5 additional points to applicants that meet this priority. Two points will be awarded to applicants that provide an assurance only. To receive the additional three points, the SEA must include detailed plans or have implemented changes that describe high quality teacher preparation that reflects scientifically-based reading research.

Application Requirements

The Assistant Secretary announces the following application requirements:

A. Eligible LEAS and Schools (Sec. 2255 and Sec. 2256)

To be considered for funding, an application must include a list of all eligible LEAs and the number of eligible schools, and the number of children and teachers in the eligible schools at the time the application is submitted. Successful applicants must provide a list of eligible LEAs and schools at the time that subgrants are awarded.

B. Funding Recommendations (Sec. 2253(c)(2)(C))

To be considered for funding, an application must receive a majority recommendation from the panel of reviewers. Any applications not receiving recommendations to be funded from a majority of the review panel, regardless of the numerical score, will not be considered.

Selection Criteria

The Assistant Secretary announces that the following selection criteria will be used to evaluate applications for new grants under this competition. The maximum score for all of these criteria is 100 points. The maximum score for each criterion is indicated in the parentheses. There are no specific point totals for the subcategories within each criterion.

(1) Understanding and commitment to effective reading instruction based on scientifically-based reading research. (15 points)

In determining the State's understanding and commitment to effective reading instruction based on scientifically-based reading research, the Secretary considers the following factors:

(a) The extent to which the proposed project incorporates a deep understanding of the scientifically-based reading research literature and how it applies in their State and local education systems.

(b) The extent to which the scientific literature on reading is implemented in proposed grant activities.

(2) Demonstration of need. (10 points)

In determining the need for the proposed project, the following factors are included:

Demographic and social data on the target population for this program (children and families) and State efforts and initiatives in reading, including current professional development activities related to the teaching of reading and family literacy, standards and assessments, and other related activities; and their relation, if any, to findings from scientifically-based reading research.

(3) Quality of local district and school activities. (35 points)

In determining the quality of the services to be provided by local activities, the Secretary considers the following factors:

(a) How the proposed project would change classroom instruction in schools under Local Reading Improvement subgrants. In particular, what professional development activities would be implemented.

(b) The extent to which the proposed activities support research-based classroom reading instruction (including extended learning such as tutoring and summer programs, kindergarten transition, and family literacy/involvement).

(c) The extent to which the proposed activities will improve reading instruction for all children, including English language learners, children with special needs, and children whose level of achievement indicates that they will need additional instructional support.

(d) The extent to which the Tutorial Assistance subgrant activities of the proposed project reflect up-to-date knowledge of reading research and effective practice.

(4) Quality of the plan for State leadership, oversight and evaluation. (25 points)

In determining the quality of the plan for State leadership, oversight and evaluation, the Secretary considers the following factors:

(a) The adequacy of procedures for ensuring success under this grant, including how the State will ensure that school activities will use practices based on scientifically-based reading research, especially professional development activities for K-3 teachers.

(b) The adequacy of the management plan to achieve the objectives of the proposed project on time and within budget, including:

• Development of the reading and literacy partnership for overseeing proposed grant activities;

• Guidance provided to eligible districts and schools for developing applications;

• Subgrant processes and criteria; and

• Leadership, technical assistance, and monitoring activities for subgrantees that ensure continuous improvement in reading.

(c) The qualifications, including relevant training and experience, of the key SEA staff responsible for managing the grant activities described above.

(d) The quality of the State's evaluation design, including student outcome measures or indicators for grades K-3, subgrant (Local Reading Improvement and Tutorial Assistance) and school implementation measures and indicators, a timeline for data collection and reporting, provisions for feedback to districts, and identification of a qualified evaluator or inclusion of appropriate criteria.

(e) The extent to which the proposed activities coordinate REA with other State initiatives and programs, including how the REA grant will add to current State and local efforts such as comprehensive early literacy programs.

(5) Adequacy of resources. (15 points)

In determining the adequacy of resources, the Secretary considers the following factors:

(a) The extent to which the average and range of amounts proposed, including the amounts per school, that will provide sufficient resources to accomplish the tasks of Local Reading Improvement and Tutorial Assistance subgrants.

(b) The budget provides sufficient detail and an appropriate level of funding to accomplish the purposes of this grant.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program, which is available free at either of the preceding sites. If you have questions about using the PDF, call the U.S. Government Printing Office (GPO), toll free at 1-888-293-6498; or in the Washington, DC, area at (202) 512-1530.

Note: The official version of this document is the document published in the Federal Register. Free Internet access to the official edition of the Federal Register and the Code of Federal Regulations is available on GPO Access at:

http://access.gpo.gov/nara/index.html

(Catalog of Federal Assistance Number: 84.338 Reading Excellence Program

Program Authority: 20 U.S.C. 6661 et seq.

Dated: April 12, 2000.
Michael Cohen,
Assistant Secretary for Office of Elementary and Secondary Education.

[FR Doc. 00-9641 Filed 4-13-00; 1:32 pm]

BILLING CODE 4001-01-P